Memorandum of October 5, 2016

Promoting Diversity and Inclusion in the National Security Workforce

Memorandum for the Heads of Executive Departments and Agencies

Our greatest asset in protecting the homeland and advancing our interests abroad is the talent and diversity of our national security workforce. Under my Administration, we have made important progress toward harnessing the extraordinary range of backgrounds, cultures, perspectives, skills, and experiences of the U.S. population toward keeping our country safe and strong. As the United States becomes more diverse and the challenges we face more complex, we must continue to invest in policies to recruit, retain, and develop the best and brightest from all segments of our population. Research has shown that diverse groups are more effective at problem solving than homogeneous groups, and policies that promote diversity and inclusion will enhance our ability to draw from the broadest possible pool of talent, solve our toughest challenges, maximize employee engagement and innovation, and lead by example by setting a high standard for providing access to opportunity to all segments of our society.

The purpose of this memorandum is to provide guidance to the national security workforce in order to strengthen the talent and diversity of their respective organizations. That workforce, which comprises more than 3 million people, includes the following departments, agencies, offices, and other entities (agencies) that are primarily engaged in diplomacy, development, defense, intelligence, law enforcement, and homeland security: 1) Department of State: Civil Service and Foreign Service; 2) United States Agency for International Development (USAID): Civil Service and Foreign Service; 3) Department of Defense (DOD): commissioned officers, enlisted personnel, and civilian personnel; 4) the 17 members of the Intelligence Community; 5) Department of the Treasury: Office of International Affairs and Office of Critical Infrastructure Protection; 6) Department of Justice: National Security Division and Federal Bureau of Investigation; and 7) Department of Homeland Security.

The data collected by these agencies do not capture the full range of diversity in the national security workforce, but where data allow for broad comparison, they indicate that agencies in this workforce are less diverse on average than the rest of the Federal Government. For example, as of 2015, only the Department of State and USAID Civil Services were more diverse in terms of gender, race, and ethnicity than the Federal workforce as a whole. When comparing the agencies' workforces to their leadership personnel (Senior Executive Service (SES) or its equivalent), all agencies' leadership staffs were less diverse than their respective workforces in terms of gender, and all but DOD enlisted personnel and USAID Civil Service had less diverse leadership in terms of race and ethnicity. While these data do not necessarily indicate the existence of barriers to equal employment opportunity, we can do more to promote diversity in the national security workforce, consistent with merit system principles and applicable law.

When I issued Executive Order 13583 of August 18, 2011 (Establishing a Coordinated Government-wide Initiative to Promote Diversity and Inclusion in the Federal Workforce), I directed all departments and agencies to develop and implement a more comprehensive, integrated, and strategic focus on diversity and inclusion. This memorandum supports that effort by providing guidance that 1) emphasizes a data-driven approach in order to increase transparency and accountability at all levels; 2) takes into account leading practices, research, and experience from the private and public sectors; and 3) complements ongoing actions that agencies are taking pursuant to Executive Order 13583 and under the leadership of the Diversity and Inclusion in Government Council, including but not limited to efforts related to gender, race, ethnicity, disability status, veterans, sexual orientation and gender identity, and other demographic categories. This memorandum also supports Executive Order 13714 of December 15, 2015 (Strengthening the Senior Executive Service), by directing agencies to take additional steps to expand the pipeline of diverse talent into senior positions.

This memorandum also aligns with congressional efforts to promote the diversity of the national security workforce, which have been reflected in legislation such as the:

• Foreign Service Act of 1980, which urged the Department of State to develop policies to encourage the “entry into and advancement in the Foreign Service by persons from all segments of American society”;

• Intelligence Reform and Terrorism Prevention Act of 2004, which called on the Intelligence Community to prescribe personnel policies and programs that ensure its personnel “are sufficiently diverse for purposes of the collection and analysis of intelligence through the recruitment and training of women, minorities, and individuals with diverse ethnic, cultural, and linguistic backgrounds”; and

• National Defense Authorization Act for Fiscal Year 2013, which mandated that the U.S. military develop and implement a plan to accurately measure the efforts of the military to “achieve a dynamic, sustainable level of members of the armed forces (including reserve components) that, among both commissioned officers and senior enlisted personnel of each armed force, will reflect the diverse population of the United States eligible to serve in the armed forces, including gender specific, racial, and ethnic populations.”

Promoting diversity and inclusion within the national security workforce must be a joint effort and requires engagement by senior leadership, managers, and the entire workforce, as well as effective collaboration among those responsible for human resources, equal employment opportunity, and diversity and inclusion issues. In implementing the guidance in this memorandum, agencies shall ensure their diversity and inclusion practices are fully integrated into broader succession planning efforts and supported by sufficient resource allocations and effective programs that invest in personnel development and engagement. Where appropriate, they shall also support, coordinate, and encourage research and other efforts by the Federal Government to expand the knowledge base of best practices for broadening participation and understanding the impact of diversity and inclusion on national security, including in the fields of science and technology.

Therefore, by the authority vested in me as President by the Constitution and the laws of the United States of America, I hereby direct the following:

Section 1. Collection, Analysis, and Dissemination of Workforce Data. Although collected data do not necessarily indicate the existence of barriers to equal employment opportunity, the collection and analysis of metrics allows agencies to assess their workforce talent gaps, as well as the effectiveness of their diversity and inclusion efforts and the adequacy of their resources to address these gaps. The dissemination of data to the public and to agency personnel may increase the transparency and accountability of their efforts. Accordingly, agencies in the national security workforce shall:

(a) Make aggregate demographic data and other information available to the public and broader workforce. Agencies shall make available to the general public information on the state of diversity and inclusion in their workforces. That information, which shall be updated at least once a year, shall include aggregate demographic data by workforce or service and grade or rank; attrition and promotion demographic data; validated inclusion metrics such as the New Inclusion Quotient (New IQ) index score; demographic comparisons to the relevant civilian labor force; and unclassified reports and barrier analyses related to diversity and inclusion. Agencies may publish data in proportions or percentages to account for classification concerns, and the Intelligence Community may publish a community-wide report with the data outlined in this section. In addition, agencies shall provide to their workforces, including senior leadership at the Secretary or Director level, a report that includes demographic data and information on the status of diversity and inclusion efforts no later than 90 days after the date of this memorandum and on an annual basis thereafter (or in line with existing annual reporting requirements related to these issues, if any).

(b) Expand the collection and analysis of voluntary applicant flow data. Applicant flow data tracks the selection rate variances for job positions among different demographic categories and can assist agencies in examining the fairness and inclusiveness of their recruitment efforts. Agencies shall develop a system to collect and analyze applicant flow data for as many positions as practicable in order to identify future areas for improvement in attracting diverse talent, with particular attention to senior and management positions. The collection of data may be implemented in a phased approach commensurate with agency resources. Agencies shall include such analysis, including the percentage and level of positions for which data are collected, and any resulting policy changes or recommendations in the report required by section 1(a) of this memorandum.

(c) Identify additional categories for voluntary data collection of current employees. The Federal Government provides minimum reporting categories for agencies collecting race and ethnicity information in the Office of Management and Budget's (OMB) Statistical Policy Directive “Standards for Maintaining, Collecting, and Presenting Federal Data on Race and Ethnicity.” That standard also encourages agencies to collect more detailed data, which can be compared by aggregating such data into minimum categories when necessary. Further, agencies may also collect additional demographic data, such as information regarding sexual orientation or gender identity. No later than 90 days after the date of this memorandum, agencies shall determine whether they recommend the voluntary collection of more detailed demographic data on additional categories. This process shall involve close consultation with internal stakeholders, such as employee resource or affinity groups; clear communication with the workforce to explain the purpose of, legal protections related to, and anticipated use of such data; and adherence to relevant standards and guidance issued by the Federal Government. Any determinations shall be submitted to OMB, the Office of Personnel Management (OPM), the Equal Employment Opportunity Commission, and the Department of Labor for consideration.

Sec. 2. Provision of Professional Development Opportunities and Tools Consistent with Merit System Principles. An inclusive work environment enhances agencies' ability to retain and sustain a strong workforce by allowing all employees to perform at their full potential and maximize their talent. Professional development opportunities and tools are key to fostering that potential, and each agency should make it a priority to ensure that all employees have access to them consistent with merit system principles. Agencies in the national security workforce shall therefore:

(a) Conduct stay and exit interviews or surveys. Agencies shall conduct periodic interviews with a representative cross-section of personnel to understand their reasons for staying with their organization, as well as to receive feedback on workplace policies, professional development opportunities, and other issues affecting their decision to remain. They shall also provide an opportunity for exit interviews or surveys of all departing personnel to understand better their reasons for leaving. Agencies shall include analysis from the interviews and surveys—including if and how the results of the interviews differ by gender, race and national origin, sexual orientation, gender identity, disability status, and other demographic variables—and any resulting policy changes or recommendations in the report required by section 1(a) of this memorandum.

(b) Expand provision of professional development and career advancement opportunities. Agencies shall prioritize resources to expand professional development opportunities that support mission needs, such as academic programs, private-public exchanges, and detail assignments to relevant positions in private or international organizations; State, local, and tribal governments; or other branches of the Federal Government. In addition, agencies in the national security workforce shall offer, or sponsor employees to participate in, an SES Candidate Development Program (CDP) or other programs that train employees to gain the skills required for senior-level agency appointments. In determining which employees are granted professional development or career advancement opportunities, agencies shall ensure their SES CDP comports with the provisions of 5 C.F.R. part 412, subpart C, including merit staffing and assessment requirements. Agencies shall also consider the number of expected senior-level vacancies as a factor in determining the number of candidates to select for such programs. Agencies shall track the demographics of program participants as well as the rate of placement into senior-level positions for participants in such programs, evaluate such data on an annual basis to look for ways to improve outreach and recruitment for these programs consistent with merit system principles, and include such data in the report required by section 1(a) of this memorandum.

(c) Institute a review process for security and counterintelligence determinations that result in assignment restrictions. For agencies in the national security workforce that place assignment restrictions on personnel or otherwise prohibit certain geographic assignments due to a security determination, these agencies shall ensure a review process exists consistent with the Adjudicative Guidelines for Determining Eligibility for Access to Classified Information, as well as applicable counterintelligence considerations. Agencies shall ensure that affected personnel are informed of the right to seek review and the process for doing so.

Sec. 3. Strengthening of Leadership Engagement and Accountability. Senior leadership and supervisors play an important role in fostering diversity and inclusion in the workforce they lead and in setting an example for cultivating talent consistent with merit system principles. Toward that end, agencies in the national security workforce shall:

(a) Reward and recognize efforts to promote diversity and inclusion. Agencies are strongly encouraged to consider implementing performance and advancement requirements that reward and recognize senior leaders' and supervisors' efforts in fostering an inclusive environment and cultivating talent consistent with merit system principles, such as through participation in mentoring programs or sponsorship initiatives, recruitment events, and other opportunities. They are also encouraged to create opportunities for senior leadership and supervisors to participate in outreach events and to discuss issues related to diversity and inclusion with the workforce on a regular basis, including with employee resource groups.

(b) Collect and disseminate voluntary demographic data of external advisory committees and boards. For agencies in the national security workforce that have external advisory committees or boards to which their senior leadership appoints members, they are strongly encouraged to collect voluntary demographic data from the members of committee and boards, and to include such data in the information and report required by section 1(a) of this memorandum.

(c) Expand training on unconscious bias, inclusion, and flexible work policies. Agencies shall expand their provision of training on implicit or unconscious bias, inclusion, and flexible work policies and make implicit or unconscious bias training mandatory for senior leadership and management positions, as well as for those responsible for outreach, recruitment, hiring, career development, promotion, and security clearance adjudication. The provision of training may be implemented in a phased approach commensurate with agency resources. Agencies shall also make available training for bureaus, directorates, or divisions whose inclusion scores, such as those measured by the New IQ index, consistently rank below the agency-wide average 3 or more years in a row. Agencies should give special attention to ensuring the continuous incorporation of research-based best practices, including those to address the intersectionality between certain demographics and job positions.

Sec. 4. Reporting on Progress. No later than 120 days after the date of this memorandum, and on an annual basis thereafter, the Assistant to the President for National Security Affairs, in consultation with the Directors of OMB and OPM, shall report to the President on the progress of the national security workforce in implementing the requirements of this memorandum, based on information provided by relevant departments and agencies.

Sec. 5. General Provisions. (a) Nothing in this memorandum shall be construed to impair or otherwise affect:

(i) the authority granted by law to an executive department, agency, or the head thereof, or the status of that department or agency within the Federal Government; or

(ii) the functions of the Director of OMB relating to budgetary, administrative, or legislative proposals.

(b) This memorandum shall be implemented consistent with applicable law, and subject to the availability of appropriations.

(c) This memorandum is not intended to, and does not, create any right or benefit, substantive or procedural, enforceable at law or in equity by any party against the United States, its departments, agencies, or entities, its officers, employees, or agents, or any other person.

(d) The Director of OPM is hereby authorized and directed to publish this memorandum in the Federal Register.

THE WHITE HOUSE,

Washington, October 5, 2016

[FR Doc. 2016-24582

Filed 10-6-16; 11:15 am]

Billing code 6325-01-P